DEPARTMENT OF LABOR

Employment and Training Administration

[TA-W-60,625]

Huntington Foam Pittsburgh Corporation, a Subsidiary of Huntington Foam Corporation, Mt. Pleasant, PA; Dismissal of Application for Reconsideration

Pursuant to 29 CFR 90.18(C) an application for administrative reconsideration was filed with the Director of the Division of Trade Adjustment Assistance for workers at Huntington Foam Pittsburgh Corporation, a subsidiary of Huntington Foam Corporation, Mt. Pleasant, Pennsylvania. The application did not contain new information supporting a conclusion that the determination was erroneous, and also did not provide a justification for reconsideration of the determination that was based on either mistaken facts or a misinterpretation of facts or of the law. Therefore, dismissal of the application was issued.

TA-W-60,625; Huntington Foam Pittsburgh Corporation, a Subsidiary of Huntington Foam Corporation, Mt. Pleasant, Pennsylvania (April 9, 2007).

Signed at Washington, DC, this 10th day of April 2007.
Ralph DiBattista,
Director, Division of Trade Adjustment Assistance.

[FR Doc. E7-7616 Filed 4-20-07; 8:45 am]

BILLING CODE 4510-FN-P